DEPARTMENT OF DEFENSE

Department of the Army

Notice of Intent To Grant an Exclusive License to ANP Technologies, Inc.

AGENCY: Department of the Army, DOD.

ACTION: Notice.

SUMMARY: In compliance with 37 CFR 404 et seq., the Department of the Army hereby gives notice of its intent to grant to ANP Technologies, Inc., 824 Interchange Boulevard, Newark, DE 19711, an exclusive license relative to United States Patent #6,716,450 entitled “Enhancing Protein Activity Through Nanoencapsulation”, Yin, et al., issued April 6, 2004. Anyone wishing to object to the granting of this license has 15 days from the date of this notice to file written objections along with supporting evidence, if any.

FOR FURTHER INFORMATION CONTACT: Michael D. Rausa, U.S. Army Research Laboratory, Office of Research and Technology Applications, ATTN: AMSRD-ARL-DP-P/Bldg. 434, Aberdeen Proving Ground, MD 21005-5425, Telephone: (410) 278-5028.

SUPPLEMENTARY INFORMATION: None.

Brenda S. Bowen,
Army Federal Register Liaison Officer.

[FR Doc. E8-24510 Filed 10-14-08; 8:45 am]

BILLING CODE 3710-08-P